DEPARTMENT OF ENERGY

Federal Energy Regulatory Commission

[Docket Nos. RP01-236-007, RP00-553-010 and RP00-481-005]

Transcontinental Gas Pipe Line Corporation; Notice of Compliance Filing

September 19, 2002.

Take notice that on September 13, 2002, Transcontinental Gas Pipe Line Corporation (Transco) tendered for filing as part of its FERC Gas Tariff, Third Revised Volume No. 1, the tariff sheets listed on Appendix A, attached to the filing, contains the enumeration of the proposed tariff sheets.

Transco states that the purpose of this filing is to comply with the Commission's Order on Compliance issued on August 29, 2002 in the referenced dockets, in which the Commission directed Transco to refile the tariff sheets made effective October 1, 2002 to eliminate references to Transco's new business system, 1Line Transco states that it will serve copies of the instant filing on its affected customers and interested State Commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-24327 Filed 9-25-02; 8:45 am]

BILLING CODE 6717-01-P